DEPARTMENT OF THE INTERIOR

Bureau of Land Management

[ID-957-1430-BJ]

Idaho: Filing of Plats of Survey

AGENCY: Bureau of Land Management, Interior.

ACTION: Notice.

SUMMARY: The plats of the following described lands were officially filed in the Idaho State Office, Bureau of Land Management, Boise, Idaho, effective 9 a.m., on the dates specified: The plat representing the dependent resurvey of portions of certain lots in section 14, and a portion of the west boundary of the Fort Sherman Abandoned Military Reservation, and the metes-and-bounds survey of Tract 44, in T. 50 N., R. 4 W., Boise Meridian, Idaho, was accepted January 18, 2002. The plat was prepared to meet certain administrative needs of the Bureau of Land Management. The supplemental plat prepared to create new lottings in section 10, in T. 48 N., R. 3 E., Boise Meridian, Idaho, was accepted January 25, 2002. The plat was prepared to meet certain administrative needs of the Bureau of Land Management.

The plat representing the dependent resurvey of portions of the east and north boundaries, the Fourth Guide Meridian East (west boundary), subdivisional lines, certain Mineral Surveys in sections 4, 5, 6, 8, 9, 13, 14, 23, 24, and 25, and the Clayton Townsite in section 25, and the survey of the 1997-2001 meanders of the Salmon River in sections 24 and 25, and the metes-and-bounds survey of certain lots in sections 24 and 25, in T. 11 N., R. 17 E., Boise Meridian, Idaho, was accepted February 5, 2002. The plat was prepared to meet certain administrative needs of the Bureau of Land Management. The plat representing the dependent resurvey of a portion of the subdivisional lines and original meanders of the Salmon River in section 30, and the metes-and-bounds surveys of lot 6 in section 19 and lot 11 in section 30, in T. 11 N., R. 18 E., Boise Meridian, Idaho, was accepted February 5, 2002. The plat was prepared to meet certain administrative needs of the Bureau of Land Management. The plat representing the dependent resurvey of a portion of the subdivisional lines and the subdivision of section 20, in T. 1 S., R. 5 E., Boise Meridian, Idaho, was accepted February 8, 2002. The plat was prepared to meet certain administrative needs of the Bureau of Land Management.

The plat representing the dependent resurvey of a portion of the south boundary, a portion of the west boundary, and a portion of the subdivisional lines, and the subdivision of sections 31 and 33, and a metes- and bounds survey in section 33, in T. 16 N., R. 43 E., Boise Meridian, Idaho, was accepted March 20, 2002. The plat was prepared to meet certain administrative needs of the Bureau of Land Management.

FOR FURTHER INFORMATION CONTACT: Duane E. Olsen, Chief, Cadastral Survey, Idaho State Office, Bureau of Land Management, 1387 South Vinnell Way, Boise, Idaho, 83709-1657, 208-373-3980.

Dated: April 2, 2002.
Duane E. Olsen,
Chief Cadastral Surveyor for Idaho.

[FR Doc. 02-11094 Filed 5-3-02; 8:45 am]

BILLING CODE 4310-GG-P